DEPARTMENT OF VETERANS AFFAIRS

[OMB Control No. 2900-0571]

Proposed Information Collection (Customer Satisfaction Surveys); Activity: Comment Request

AGENCY: National Cemetery Administration, Department of Veterans Affairs.

ACTION: Notice.

SUMMARY: The Department of Veterans Affairs (VA) National Cemetery Administration (NCA), is announcing an opportunity for public comment on the proposed collection of certain information by the agency. Under the Paperwork Reduction Act (PRA) of 1995, Federal agencies are required to publish notice in the Federal Register concerning each proposed collection of information, including each revised collection allow 60 days for public comment in response to the notice. This notice solicits comments on the collection of perceptions of the quality of service afforded by the National Cemetery Administration as judged by next of kin of those interred, or funeral directors who facilitate these interments.

DATES: Written comments and recommendations on the proposed collection of information should be received on or before November 25, 2016.

ADDRESSES: Submit written comments on the collection of information through Federal Docket Management System (FDMS) at www.Regulations.gov or to Willie Lewis, National Cemetery Administration (43D3), Department of Veterans Affairs, 810 Vermont Avenue NW., Washington, DC 20420; or email: willie.lewis@va.gov. Please refer to “OMB Control No. 2900-0571” in any correspondence. During the comment period, comments may be viewed online through the FDMS.

FOR FURTHER INFORMATION CONTACT: Willie Lewis at (202) 461-4242 or FAX (202) 501-2240.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: Customer Satisfaction Surveys.

OMB Control Number: 2900-0571.

Type of Review: Revision of an approved collection.

Abstract: Improving Customer Service through Effective Performance Management, NCA will conduct surveys to determine the level of satisfaction with existing services among their customers. The surveys will solicit voluntary opinions and are not intended to collect information required to obtain or maintain eligibility for a VA program or benefit. Baseline data obtained through these information collections are used to validate customer service standards.

Affected Public: Individuals or households interring Veterans or eligible dependents, and funeral directors facilitating such interments.

Estimated Annual Burden Hours, Burden per Respondents, and Number of Respondents:

I. National Cemetery Administration Mail Surveys

a. Next of Kin National Customer Satisfaction Survey (Mail to 15,000 respondents/30 minutes per survey) = 7,500 hours.

b. Funeral Directors National Customer Satisfaction Survey (Mail to 4,000 respondents/30 minutes per survey) = 2,000 hours.

c. Veterans-at-Large National Customer Satisfaction Survey (Mail to 5,000 respondents/30 minutes per survey) = 2,500 hours.

II. Program/Specialized Service Survey

National Cemetery Administration Headstone and Marker/PMC Survey (Mail to 6,000 surveys/15 minutes per each) = 1,500.

Frequency of Response: On Occasion.

By direction of the Secretary.
Cynthia Harvey-Pryor,
Program Specialist, Office of Privacy and Records Management, Department of Veterans Affairs.

[FR Doc. 2016-23109 Filed 9-23-16; 8:45 am]

BILLING CODE 8320-01-P